FEDERAL MARITIME COMMISSION

Ocean Transportation Intermediary License; Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License no. | Name/address | Date reissued
018342F | Louisiana Forwarder LLC, 664 Eight Street, Slidell, LA 70458 | July 9, 2004.
018380N | MCS Cargo Systems, Inc., dba Expedite America Express, 2688 Coyle Lane, Elk Grove Village, IL 60007 | August 18, 2004.
018620N | Motherlines, Inc., 11 Sunrise Plaza, Suite 301, Valley Stream, NY 11580 | August 23, 2004.

Sandra L. Kusumoto,
Director, Bureau of Certification and Licensing.

[FR Doc. 04-21834 Filed 9-28-04; 8:45 am]

BILLING CODE 6730-01-P